DEPARTMENT OF HOMELAND SECURITY

Federal Emergency Management Agency

[Docket ID FEMA-2014-0022]

Technical Mapping Advisory Council

AGENCY: Federal Emergency Management Agency, Department of Homeland Security.

ACTION: Committee Management; Notice of Federal Advisory Committee meeting.

SUMMARY: The Federal Emergency Management Agency (FEMA) Technical Mapping Advisory Council (TMAC) will hold a virtual meeting on Tuesday, October 19, 2021, and Wednesday, October 20, 2021. The meeting will be open to the public via a Zoom Video Communications link.

DATES: The TMAC will meet on Tuesday, October 19, 2021, and Wednesday, October 20, 2021 from 10 a.m. to 2 p.m. Eastern Time (ET) both days. Please note that the meeting will close early if the TMAC has completed its business.

ADDRESSES: The meeting will be held virtually using the following Zoom Video Communications link (https://fema.zoomgov.com/j/1607295999) and password (101460) to share meeting visuals and audio. Audio is also accessible using a Zoom call in number (+1-669-254-5252) along with the Meeting Identification (1607295999) and password (101460). Members of the public who wish to attend the virtual meeting must register in advance by sending an email to FEMA-TMAC@fema.dhs.gov (Attention: Brian Koper) by 5 p.m. ET on Thursday, October 14, 2021. For information on services for individuals with disabilities or to request special assistance at the meeting, please contact the person listed below by Thursday, October 14, 2021.

To facilitate public participation, members of the public are invited to provide written comments on the issues to be considered by the TMAC, as listed in the SUPPLEMENTARY INFORMATION caption below. Associated meeting materials will be available at the TMAC website (https://www.fema.gov/flood-maps/guidance-partners/technical-mapping-advisory-council) for review by Thursday October 14, 2021. Written comments to be considered by the committee at the time of the meeting must be submitted and received by Thursday October 14, 2021, identified by Docket ID FEMA-2014-0022, and submitted by one of the following methods:

• Federal eRulemaking Portal: http://www.regulations.gov. Follow the instructions for submitting comments.

• Email: Address the email to FEMA-TMAC@fema.dhs.gov. Include the docket number in the subject line of the message. Include name and contact information in the body of the email.

Instructions: All submissions received must include the words “Federal Emergency Management Agency” and the docket number for this action. Comments received will be posted without alteration at http://www.regulations.gov, including any personal information provided.

Docket: For docket access to read background documents or comments received by the TMAC, go to http://www.regulations.gov and search for the Docket ID FEMA-2014-0022.

A public comment period will be held on Tuesday, October 19, 2021 from 11:30 a.m. to 12 p.m. ET and Wednesday, October 20, 2021 from 11:30 a.m. to 12 p.m. ET. The public comment period will not exceed 30 minutes. Please note that the public comment period may end before the time indicated, following the last call for comments. Contact the individual listed below to register as a speaker by close of business on Thursday October 14, 2021.

FOR FURTHER INFORMATION CONTACT: Brian Koper, Designated Federal Officer for the TMAC, FEMA, 400 C Street SW, Washington, DC 20024, telephone 202-733-7859, and email brian.koper@fema.dhs.gov. The TMAC website is: https://www.fema.gov/flood-maps/guidance-partners/technical-mapping-advisory-council.

SUPPLEMENTARY INFORMATION: Notice of this meeting is given under the Federal Advisory Committee Act, 5 U.S.C. App. (Pub. L. 92-463).

In accordance with the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

Agenda: The purpose of this meeting is for the TMAC members to discuss the draft content for the 2021 TMAC report. Any related materials will be posted to the FEMA TMAC site prior to the meeting to provide the public an opportunity to review the materials. The full agenda and related meeting materials will be posted for review by Thursday, October 14, 2021 at https://www.fema.gov/flood-maps/guidance-partners/technical-mapping-advisory-council.

Michael M. Grimm,
Assistant Administrator for Risk Management, Federal Emergency Management Agency.

[FR Doc. 2021-21515 Filed 10-1-21; 8:45 am]

BILLING CODE 9110-12-P